DEPARTMENT OF JUSTICE

Office of Justice Programs

Agency Information Collection Activities: Existing Collection; Comment Request

ACTION: Notice of Information Collection Under Review; Extension of a Currently Approved Collection.

National Corrections Reporting Program

The Department of Justice, Office of Justice Programs, Bureau of Justice Statistics, has submitted the following information collection request for review and clearance in accordance with the Paperwork Reduction Act of 1995. Office of Management and Budget approval is being sought for the information collection listed below. This proposed information collection was previously published in the Federal Register on January 13, 2000, allowing for a 60-day public comment period.

The purpose of this notice is to allow an additional 30 days for public comment until May 11, 2000. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530. Additionally, comments may be submitted to OMB via facsimile to (202) 395-7285. Comments may also be submitted to the Department of Justice (DOJ), Justice Management Division, Information Management and Security Staff, Attention: Department Clearance Officer, Suite 850, 1001 G Street, NW, Washington, DC 20530. Additionally, comments may be submitted to DOJ via facsimile to (202) 514-1590.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Extension of a currently approved collection.

(2) The title of the form/collection: National Corrections Reporting Program.

(3) The agency form number, if any, and the applicable component of the Department sponsoring the collection: Forms: NCRP-1A, NCRP-1B, NCRP-1C, and NCRP-1D. Corrections Unit, Bureau of Justice Statistics, Office of Justice Programs, United States Department of Justice.

(4) Affected public who will be asked or required to respond, as well as a brief abstract: State Departments of Corrections. The National Corrections Reporting Program is the only national level data collection that provides information on sentence length, expected time to be served in prison, actual time served by released prisoners, method of release, time served on parole, type of parole discharge, offense composition of offenders entering and exiting prison and parole, and other characteristics of inmates and parolees. The data is used by Department of Justice officials, the U.S. Congress, prison administrators, researchers, and policy makers to assess current trends and patterns in the Nation's correctional populations.

(5) An estimate of the total number of respondents and the amount of time estimated for an average respondent to respond/reply: It is estimated that 41 respondents will take on average 2 hours to respond.

(6) An estimate of the total public burden (in hours) associated with the collection: 2,196 hours annual burden.

If additional information is required contact: Ms Brenda E. Dyer, Deputy Clearance Officer, United States Department of Justice, Information Management and Security Staff, Justice Management Division, Suite 1220, National Place, 1331 Pennsylvania Avenue NW, Washington, DC 20530.

Dated: April 6, 2000.
Brenda E. Dyer,
Department Deputy Clearance Officer, United States Department of Justice.

[FR Doc. 00-8996 Filed 4-10-00; 8:45 am]

BILLING CODE 4410-18-M